DEPARTMENT OF HOMELAND SECURITY

Coast Guard

33 CFR Part 117

[Docket No. USCG-2014-1045]

Drawbridge Operation Regulation; Intracoastal Waterway, Surf City, NC

AGENCY: Coast Guard, DHS.

ACTION: Notice of deviation from drawbridge regulation.

SUMMARY: The Coast Guard has issued a temporary deviation from the operating schedule that governs the NC Route 50-210 Highway Bridge, on the Atlantic Intracoastal Waterway, mile 260.7, in Surf City, NC. This drawbridge is presently regulated to open on signal for commercial vessels and pleasure vessels, except between 7 a.m. and 7 p.m. when the draw need only open on the hour for pleasure vessels. To facilitate necessary repairs, this deviation allows for the bridge to remain closed to navigation from 6 p.m. on February 22, 2015 to 6 p.m. February 24, 2015, except for two openings at 10 a.m. and 3 p.m. each day.

DATES: This deviation is effective from 6 p.m. on Sunday, February 22, 2015 to 6 p.m. Tuesday, February 24, 2015.

ADDRESSES: The docket for this deviation [USCG-2014-1045] is available at http://www.regulations.gov. Type the docket number in the “SEARCH” box and click “SEARCH”. Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Terrance Knowles, Environmental Protection Specialist, Coast Guard; telephone (757)398-6587, email at Terrance.A.Knowles@uscg.mil. If you have questions on viewing the docket, call Cheryl Collins, Program Manager, Docket Operations, at 202-366-9826.

SUPPLEMENTARY INFORMATION: The North Carolina Department of Transportation (NCDOT), who owns and operates this swing-type highway drawbridge, has requested a temporary deviation from the current operating regulations to facilitate the repairs to the terminal cabinets and submarine cables. The NC Route 50-210 drawbridge located on the Atlantic Intracoastal Waterway, mile 260.7, in Surf City, NC has a vertical clearance of 12 feet above mean high water in the closed to navigation position.

Under the current operating schedule set out in 33 CFR 117.821(a)(2), this bridge is regulated to open on signal for commercial vessels and pleasure vessels, except between 7 a.m. and 7 p.m. when the draw need only open on the hour for the pleasure vessels.

Under this temporary deviation, it allows for the bridge to remain closed to navigation from 6 p.m. on February 22, 2015 to 6 p.m. February 24, 2015, except for two openings at 10 a.m. and 3 p.m. each day. Vessels able to pass underneath the bridge in the closed position may do so at anytime. Also, the bridge can be opened for emergencies and there is an alternate route using the ocean.

The Coast Guard will inform the users of the waterway through Local and Broadcast Notice to Mariners of the temporary deviation in operating schedule for the bridge so that vessels can arrange their transit plans accordingly. Waterway traffic consists of fishing boats, recreational boats, tugs, and barges.

In accordance with 33 CFR 117.35(e), the drawbridge must return to its regular operating schedule immediately at the end of the effective period of this temporary deviation. This deviation from the operating regulations is authorized under 33 CFR 117.35.

Dated: December 11, 2014.
James L. Rousseau,
Bridge Program Manager, Fifth Coast Guard District.

[FR Doc. 2014-30459 Filed 12-29-14; 8:45 am]

BILLING CODE 9110-04-P